DEPARTMENT OF COMMERCE

National Oceanic and Atmospheric Administration

RIN 0648-XE118

Determination of Overfishing or an Overfished Condition

AGENCY: National Marine Fisheries Service (NMFS), National Oceanic and Atmospheric Administration (NOAA), Commerce.

ACTION: Notice.

SUMMARY: This action serves as a notice that NMFS, on behalf of the Secretary of Commerce (Secretary), has found that the following four stocks of Pacific salmon are subject to overfishing: Chinook salmon—Columbia River Basin: Upper River Summer; Chinook salmon—Washington Coast: Willapa Bay Fall Natural; Chinook salmon—Washington Coast: Grays Harbor Fall; and Coho salmon—Washington Coast: Hoh. In addition, NMFS has found that the North Pacific swordfish stock in the Eastern Pacific Ocean, which is jointly managed by the Pacific Fishery Management Council and the Western Pacific Fishery Management Council, is subject to overfishing. NMFS, on behalf of the Secretary, notifies the appropriate fishery management council (Council) whenever it determines that overfishing is occurring, a stock is in an overfished condition, a stock is approaching an overfished condition, or when a rebuilding plan has not resulted in adequate progress toward ending overfishing and rebuilding affected fish stocks. None of these stocks is in an overfished condition.

FOR FURTHER INFORMATION CONTACT: Regina Spallone, (301) 427-8568.

SUPPLEMENTARY INFORMATION: Pursuant to sections 304(e)(2) and (e)(7) of the Magnuson-Stevens Fishery Conservation and Management Act (Magnuson-Stevens Act), 16 U.S.C. 1854(e)(2) and (e)(7), and implementing regulations at 50 CFR 600.310(e)(2), NMFS, on behalf of the Secretary, must notify Councils whenever it determines that a stock or stock complex is overfished or approaching an overfished condition; or if an existing rebuilding plan has not ended overfishing or resulted in adequate rebuilding progress. NMFS also notifies Councils when it determines a stock or stock complex is subject to overfishing. Section 304(e)(2) further requires NMFS to publish these notices in the Federal Register.

NMFS has determined that four stocks of Pacific salmon are now subject to overfishing:

1. Chinook salmon—Columbia River Basin: Upper River Summer;

2. Chinook salmon—Washington Coast: Willapa Bay Fall Natural;

3. Chinook salmon— Washington Coast: Grays Harbor Fall; and

4. Coho salmon—Washington Coast: Hoh.

The Pacific Fishery Management Council has been informed that they must take action to end overfishing immediately on these stocks.

In addition, NMFS has determined that the North Pacific swordfish stock in the Eastern Pacific Ocean (EPO) is subject to overfishing and is not in an overfished condition. This determination was based on an assessment conducted by the International Scientific Committee for Tuna and Tuna-like Species in the North Pacific Ocean (ISC), in conjunction with NOAA scientists. NMFS has confirmed that section 304(i) of the Magnuson-Stevens Fishery Conservation and Management Act (Magnuson-Stevens Act) applies because (1) the overfishing condition of swordfish is due largely to excessive international fishing pressure, and (2) there are no management measures (or efficiency measures) to end overfishing under an international agreement to which the U.S. is a party. NMFS has informed the Western Pacific Fishery Management Council and the Pacific Fishery Management Council of their obligations for international and domestic management under Magnuson-Stevens Act sections 304(i) and 304(i)(2) to address international and domestic impacts, respectively. The Councils must develop domestic regulations to address the relative impact of the domestic fishing fleet on the stock, and develop recommendations to the Secretary of State and Congress for international actions to end overfishing on North Pacific swordfish EPO.

Dated: August 27, 2015.
Emily H. Menashes,
Acting Director, Office of Sustainable Fisheries, National Marine Fisheries Service.

[FR Doc. 2015-21676 Filed 9-1-15; 8:45 am]

BILLING CODE 3510-22-P